DEPARTMENT OF TRANSPORTATION

Federal Aviation Administration

Notice of Intent To Rule on Request To Amend an Approved Application (99-04-C-00-OTH) To Impose and Use the Revenue From a Passenger Facility Charge (PFC) at North Bend Municipal Airport, Submitted by the City of North Bend/Port of Coos Bay, North Bend, OR

AGENCY: Federal Aviation Administration (FAA), DOT.

ACTION: Notice of intent to rule on a request to amend an approved PFC application.

SUMMARY: The FAA proposes to rule and invites public comment on the request to amend the approved application to impose and use PFC revenue at the North Bend Municipal Airport under the provisions of 49 U.S.C. 40117 and Part 158 of the Federal Aviation Regulations (14 CFR 158).

DATES: Comments must be received on or before February 9, 2001.

ADDRESSES: Comments on this request may be mailed or delivered in triplicate to the FAA at the following address: Mr. J. Wade Bryant, Manager; Seattle Airports District Office, SEA-ADO, Federal Aviation Administration; 1601 Lind Avenue SW., Suite 250, Seattle, Washington 98055-4056.

In addition, one copy of any comments submitted to the FAA must be mailed or delivered to Mr. Gary LeTellier. Airport Manager, at the following address: City of North Bend/Port of Coos Bay, 2348 Colorado Avenue, North Bend, OR 97459-2079.

Air Carriers and foreign air carriers may submit copies of written comments previously provided to the City of North Bend/Port of Coos Bay, under section 158.23 of Part 158.

FOR FURTHER INFORMATION CONTACT: Ms. Suzanne Lee-Pang, (425) 227-2654, 1601 Lind Avenue SW., Suite 250, Seattle, Washington 98055-4056. The request may be reviewed in person at this same location.

SUPPLEMENTARY INFORMATION: The FAA proposes to rule and invites public comment on the request to amend the application (99-04-C-00-OTH) to impose and use PFC revenue at the North Bend Municipal Airport, under the provisions of 49 U.S.C. 40117 and Part 158 of the Federal Aviation Regulations (14 CFR Part 158).

On October 26, 2000, the FAA received the request to amend the application to impose and use the revenue from a PFC, submitted by the City of North Bend/Port of Coos Bay, within the requirements of section 158.25 of Part 158. The FAA will approve or disapprove the amendment no later than February 23, 2001.

The following is a brief overview of the application.

Proposed increase in PFC level: From $3.00 to $4.50.

Proposed charge-effective date: May 6, 1999.

Total requested for use approval: $164,500 (Includes $60,890 from amendment).

Class or classes of air carriers which the public agency has requested not be required to collect PFC's: Non-scheduled air taxi/commercial operators utilizing aircraft having a seating capacity of less than 20 passengers.

Any person may inspect the application in person at the FAA office listed above under FOR FURTHER INFORMATION CONTACT and at the FAA Regional Airports Office located at: Federal Aviation Administration, Northwest Mountain Region, Airports Division, ANM-600, 1601 Lind Avenue SW., Suite 315, Renton, WA 98055-4056.

In addition, any person may, upon request, inspect the application, notice and other documents germane to the request to amend an approved application in person at North Bend Municipal Airport.

Issued in Renton, Washington on December 28, 2000.
David A. Field,
Manager, Planning, Programming and Capacity Branch, Northwest Mountain Region.

[FR Doc. 01-710 Filed 1-9-01; 8:45 am]

BILLING CODE 4910-13-M